ENVIRONMENTAL PROTECTION AGENCY

[EPA-HQ-OAR-2007-0269; FRL 9993-47-OMS]

Information Collection Request Submitted to OMB for Review and Approval; Comment Request; Transportation Conformity Determinations for Federally Funded and Approved Transportation Plans, Programs and Projects (Reinstatement)

AGENCY: Environmental Protection Agency (EPA).

ACTION: Notice.

SUMMARY: The Environmental Protection Agency (EPA) is planning to submit an information collection request (ICR), Transportation Conformity Determinations for Federally Funded and Approved Transportation Plans, Programs, and Projects (EPA ICR Number 2130.06, OMB Control Number 2060-0561), to the Office of Management and Budget (OMB) for review and approval in accordance with the Paperwork Reduction Act. This is a proposed reinstatement of the ICR, which was approved through March 31, 2019. Public comments were previously requested via the Federal Register on November 19, 2018 during a 60-day comment period. This notice allows for an additional 30 days for public comments. A fuller description of the ICR is given below, including its estimated burden and cost to the public.

DATES: Additional comments may be submitted on or before August 19, 2019.

ADDRESSES: Submit your comments, referencing Docket ID Number EPA-HQ-OAR-2007-0269, to (1) EPA online using www.regulations.gov (our preferred method) or by mail to: EPA Docket Center, Environmental Protection Agency, Mail Code 28221T, 1200 Pennsylvania Ave. NW, Washington, DC 20460, and (2) OMB via email to oira_submission@omb.eop.gov. Address comments to “OMB Desk Officer for EPA”.

EPA's policy is that all comments received will be included in the public docket without change including any personal information provided, unless the comment includes profanity, threats, information claimed to be Confidential Business Information (CBI) or other information whose disclosure is restricted by statute.

FOR FURTHER INFORMATION CONTACT: Astrid Terry, Office of Transportation and Air Quality, Environmental Protection Agency, 2000 Traverwood Drive, Ann Arbor, MI 48105; telephone number: 734-214-4812; email address: terry.astrid@epa.gov.

SUPPLEMENTARY INFORMATION: Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit www.epa.gov/dockets.

Abstract: Transportation conformity is required under Clean Air Act section 176(c) (42 U.S.C. 7506(c)) to ensure that federally supported transportation activities are consistent with (conform to) the purpose of the State Air Quality Implementation Plan (SIP). Transportation activities include transportation plans, transportation improvement programs (TIPs), and federally funded or approved highway or transit projects. Conformity to the purpose of the SIP means that transportation activities will not cause or contribute to new air quality violations, worsen existing violations, or delay timely attainment of the relevant National Ambient Air Quality Standards (NAAQS)) or interim milestones.

Transportation conformity applies under EPA's conformity regulations at 40 CFR part 93, subpart A, to areas that are designated nonattainment and maintenance areas for the following transportation-related criteria pollutants: Ozone, particulate matter (PM2.5 and PM10), carbon monoxide (CO), and nitrogen dioxide (NO2). EPA published the original transportation conformity rule on November 24, 1993 (58 FR 62188), and subsequently published several revisions. EPA develops the conformity regulations in coordination with the Federal Highway Administration (FHWA) and Federal Transit Administration (FTA). The federal government needs information collected under these regulations to ensure that metropolitan planning organization (MPO) and federal transportation actions are consistent with state air quality goals.

Form Numbers: None.

Respondents/affected entities: MPOs, local transit agencies, state departments of transportation, and state and local air quality agencies.

Respondent's obligation to respond: Mandatory pursuant to Clean Air Act section 176(c) (42 U.S.C. 7506(c)) and 40 CFR part 93.

Estimated number of respondents: 155.

Frequency of response: Typically, once every 4 years for transportation plans and TIPs, and for the largest MPOs with 3 or more NAAQS, once every 3 years for transportation plans and TIPs. As needed for projects.

Total estimated burden: 48,671 hours (per year). Burden is defined at 5 CFR 1320.3(b).

Total estimated cost: $3,094,989 (per year), includes zero annualized capital or operation and maintenance costs.

Changes in estimates: There is a decrease of 11,877 hours in the total estimated respondent burden compared with the ICR currently approved by OMB. A decrease in burden was projected due to the requirement for transportation conformity ending in PM10, NO2, and CO maintenance areas that have reached the end of the 20-year maintenance period. A decrease in burden was projected due to fewer transportation conformity determinations for areas previously designated nonattainment or maintenance for the 1997 PM2.5 NAAQS. Burden was increased for the 1997 ozone NAAQS due to the South Coast II court decision, which occurred during the development of this ICR. The number of training hours was reduced for this ICR as no new emissions model has been released and additional hours for such a model transition and training are not anticipated. Based on the comments and supporting example documentation received during the first public comment period, EPA increased the estimated burden hours by 40% associated with an individual transportation plan and TIP conformity determination in the largest MPOs as well as increased TIP frequency for the largest MPOs where conformity applies for 3 or more NAAQS.

Courtney Kerwin,
Director, Regulatory Support Division.

[FR Doc. 2019-15265 Filed 7-17-19; 8:45 am]

BILLING CODE 6560-50-P